ENVIRONMENTAL PROTECTION AGENCY

[FRL-7421-5]

Agency Information Collection Activities: Proposed Collection Extension; Comment Request; Industry Detailed Questionnaire: Phase III Cooling Water Intake Structures

AGENCY: Environmental Protection Agency (EPA).

ACTION: Notice.

SUMMARY: In compliance with the Paperwork Reduction Act (44 U.S.C. 3501 et seq.), this notice announces that the U.S. Environmental Protection Agency (EPA or the “Agency”) is planning to submit a request for a three-year extension of the following Information Collection Request (ICR) to the Office of Management and Budget (OMB): Industry Detailed Questionnaire: Phase II Cooling Water Intake Structures, EPA ICR No. 1838.01, OMB # 2040-0213 expiration December 31, 2002. Before submitting the request for extension to OMB for review and approval, EPA is soliciting comments on specific aspects of the proposed information collection as described below.

DATES: Comments must be submitted on or before February 10, 2003.

ADDRESSES: Comments may be submitted electronically, by mail, or through hand delivery. Follow the detailed instructions as provided in the SUPPLEMENTARY INFORMATION section.

FOR FURTHER INFORMATION CONTACT: Deborah Nagle at EPA by phone at (202) 566-1063, by Email at nagle.deborah@epa.gov.

SUPPLEMENTARY INFORMATION:

I. General Information

A. Affected Entities

Entities potentially affected by this action are those existing facilities that use cooling water intake structures to withdraw water from waters of the U.S. for cooling purposes and that have or are required to have a National Pollutant Discharge Elimination System (NPDES) permit issued under section 402 of the Clean Water Act (CWA). In addition to the entities identified in the new facility rule, see 66 FR 65256 and 65257, this action may affect existing and new Offshore and Coastal Oil and Gas Extraction Facilities, and existing and new Offshore Seafood Processors because EPA did not survey these industry categories during the original information collection effort. In addition, EPA may contact approximately 25 Phase III facilities (Traditional Steam Electric Utilities, Nonutility Power Producers, Paper and Allied Products; Chemical and Allied Products; Petroleum and Coal Products; Primary Metals) because they did not fully answer the survey questions or because their responses were unclear and require additional inquiry.

B. How Can I Get Copies of the ICR Supporting Statement and Other Related Information?

Electronic Access. You may access this Federal Register document electronically through the EPA Internet under the “Federal Register” listings at http://www.epa.gov/fedrgstr/. You may download a copy of the ICR extension request at http://www.epa.gov/icr and refer to EPA ICR No. 1838.01, OMB # 2040-0213. You may obtain a copy of the Detailed Industry Questionnaire at http://www.epa.gov/waterscience/316b under the section, “Questionnaires for Existing Facilities.”

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered will be transferred to EPA's electronic public docket. Public comments that are mailed or delivered will be scanned and placed in EPA's electronic public docket. Where practical, physical objects will be photographed, and the photograph will be placed in EPA's electronic public docket along with a brief description written by the docket staff.

C. How and To Whom Do I Submit Comments?

You may submit comments electronically, by mail, or through hand delivery/courier. Please ensure that your comments are submitted within the specified comment period. Comments received after the close of the comment period will be marked “late.” EPA is not required to consider these late comments in formulating a final decision. However, late comments may be considered if time permits.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. E-mail. Comments may be sent by electronic mail (e-mail) to rule.316b@epa.gov, Attention EPA ICR No. 1838.01. EPA's e-mail system is not an “anonymous access” system; EPA's e-mail system automatically captures your e-mail address. E-mail addresses that are automatically captured by EPA's e-mail system are included as part of the comment that is placed in the official public docket, and made available in EPA's electronic public docket.

ii. Disk or CD ROM. You may submit comments on a disk or CD ROM that you mail to the mailing address identified below. These electronic submissions will be accepted in WordPerfect. Avoid the use of special characters and any form of encryption.

2. By Mail. Send three copies of your comments to: Ms. Deborah G. Nagle, U.S. EPA, Engineering and Analysis Division (4303T), 1200 Pennsylvania Ave., NW., Washington, DC, 20460, Attention EPA ICR No. 1838.01.

3. By Hand Delivery or Courier. Deliver your comments to: Ms. Deborah G. Nagle, U.S. EPA, Engineering and Analysis Division (Room 6233N), 1301 Constitution Ave., NW., Washington, DC, 20004, Attention EPA ICR No. 1838.01. Such deliveries are only accepted during the normal hours of operation from 9 a.m. to 5 p.m..

D. What Should I Consider as I Prepare My Comments for EPA?

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

E. What Information Is EPA Particularly Interested in?

Pursuant to section 3506(c)(2)(A) of the PRA, EPA specifically solicits comments and information to enable it to:

1. Evaluate whether the proposed collection of information are necessary for the proper performance of the functions of the Agency, including whether the information will have practical utility.

2. Evaluate the accuracy of the Agency's estimates of the burdens of the proposed collection of information.

3. Enhance the quality, utility, and clarity of the information to be collected.

4. Minimize the burden of the collections of information on those who are to respond, including through the use of appropriate automated or electronic collection technologies or other forms of information technology, e.g., permitting electronic submission of responses.

II. Title

Industry Detailed Questionnaire: Phase II Cooling Water Intake Structures (OMB # 2040-0213; EPA ICR No. 1838.01, expiring December 31, 2002). This is a request for extension which would increase the scope and burden of the original ICR.

III. Abstract

EPA is developing regulations implementing section 316(b) of the CWA, 33 U.S.C. 1326(b) pursuant to a Consent Decree in Riverkeeper v. Whitman [93 civ.0314 (AGS)] entered on October 10, 1995, which was subsequently amended on November 22, 2002, and again on November 25, 2002. Under the first amended consent decree, EPA proposed “Phase I” regulations for cooling water intake structures at certain new industrial facilities on July 20, 2000, took final action on the Phase I regulations on November 9, 2001, and proposed “Phase II” regulations for approximately 550 existing electric power generating plants on February 28, 2002. Under the terms of the second amended consent decree, must take final action on the Phase II regulations by no later than February 16, 2004. Under the Second Amended Consent Decree, EPA must also propose “Phase III” regulations by November 1, 2004 and take final action on these regulations by June 1, 2006. The Phase III regulations must, at a minimum, address existing utility and non-utility power producers not covered by the Phase II Regulations; and other industrial facilities that employ cooling water intake structures.

In accordance with the Paperwork Reduction Act (“PRA”) (44 U.S.C. 3501, et seq.), this notice announces that the U.S. Environmental Protection Agency (EPA or the “Agency”) plans to submit a request for a three-year extension of the Information Collection Request (ICR) entitled, “Industry Detailed Questionnaire: Phase III Cooling Water Intake Structures (EPA ICR No. 1838.01, OMB # 2040-0213)” to the Office of Management and Budget (OMB) for review and approval. Note that the Agency is substituting the term “Phase III” for “Phase II” to correspond to the structure of the rulemaking. EPA plans to request OMB approval to extend the survey for facilities potentially subject to Phase III of the cooling water intake structure rulemaking effort. The offshore and coastal oil and gas extraction facilities and offshore seafood processing facilities would be most likely affected by extension of the data collection effort because EPA did not survey these industries during the original information collection request effort. EPA did not survey these industries because, at the time, EPA was not aware that these facilities used cooling water in volumes potentially subject to regulation under section 316(b) of the CWA. Information provided in public comments on EPA's “Phase I” regulatory proposal for new power plants and industrial facilities made EPA aware of the use of cooling water by these facilities and prompted EPA to defer consideration of these categories until the Phase III rule.

The Offshore and Coastal Oil and Gas Extraction category contains a large number of facilities and it presents unique engineering, cost, and economic issues associated with drilling rigs, ships, and platforms. EPA has acquired current industry surveys and commercial databases that identify offshore and coastal oil and gas extraction facilities in the Gulf of Alaska, California, and the Gulf of Mexico. Preliminary information indicates that there are about 200 offshore oil and gas platforms and mobile drilling units that are potentially subject to the Phase III regulation. Approximately 100 businesses own these platforms and mobile drilling units. Through these sources, EPA has obtained sufficient current technical data on offshore and coastal oil and gas extraction facilities and does not intend to collect additional technical data through the Detailed Industry Survey. However, EPA does not have current economic and financial data on these facilities and intends to send selected sections of the detailed questionnaire that cover scope and economic data to offshore and coastal oil and gas extraction firms.

The offshore seafood processing industry also proposes some unique regulatory issues. EPA has begun to collect publicly available information on seafood processing vessels to identify uses and volumes of cooling water, numbers of facilities, where they are located, and how many of them are small businesses. Data collected to date confirm that seafood processing plants (floating vessels or on-board factory trawlers) use cooling water mainly for cooling of diesel engines and generators and equipment during desalinization processes (condensation of steam). Data also indicate that these vessels withdraw volumes of cooling water that may make them potentially subject to regulation under section 316(b). EPA does not have sufficient current technical data on the offshore seafood processing industry to determine the impact the Phase III rule would have on the industry. Therefore, EPA proposes to collect additional technical, economic and financial data on seafood processing plants (floating vessels or on-board factory trawlers). First, EPA intends to send the Industry Short Technical Questionnaire to all the known offshore seafood processing facilities to determine which ones would potentially be affected by the Phase III rule. To reduce burden, EPA proposes to delete some of the questions in section 3 (Design and Operational Data for cooling Water Intake Structures and Cooling Water Systems) that do not apply to this industry. EPA then intends to send the Detailed Industry Questionnaire to a subset of potentially affected facilities. To reduce burden, EPA proposes to delete most of the questions in part 2 (Technical Data). Deleted questions are identified in the revised ICR supporting document.

EPA plans to use the information collected from the detailed questionnaire to assess the potential economic impacts of Phase III regulations on potentially affected facilities. The survey would also collect economic data on facility ownership, major production activities, markets and finances. The Agency will use this information to assess facility-level and firm-level impacts of complying with the proposed Phase III cooling water intake structure regulations as appropriate under CWA section 316(b). The economic data will also enable EPA to carry out required analyses, including a Regulatory Impact Analysis (RIA), a cost/benefit analysis, and a small business analysis.

EPA's authority to collect this information is fully discussed in the ICR supporting document. In summary, section 308 of the CWA authorizes EPA to collect technical, biological and financial data to support the rulemaking process. The ICR for the Industry Detailed Questionnaire: Phase III Cooling Water Intake Structures matches the purpose authorized under section 308, therefore responses to the detailed questionnaire are mandatory. In accordance with 40 CFR part 2, subpart B, § 2.203, the survey will inform respondents of their right to claim information as confidential. The survey provides instructions on the procedures for making Confidential Business Information (CBI) claims, and the respondents also will be informed of the terms and rules governing protection of CBI obtained under the CWA. An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on January 26, 1998 (63 FR 3738); 363 comments were received. Based on these comments and the pretest results, EPA significantly modified the questionnaire.

IV. Burden Statement

The annual public reporting and recordkeeping burden for the detailed questionnaire is estimated to be about 45 hours per response for offshore oil and gas extraction facilities. The public reporting and recordkeeping burden for offshore seafood processing facilities would be 8 hours per response on the Industry Short Technical Questionnaire, and 56 hours per response on the Detailed Industry Questionnaire. These estimates are based upon estimates in the OMB approved ICR, taking into account the reduced burden from deleted questions. The respondent burden in the original approved ICR was 128,736 hours and the non-labor cost was $13,635. The total burden associated with this extension is articulated below and reflects the changes in applicable respondents described in section III of this notice:

Estimated Number of Respondents for Detailed Questionnaire: 250 (100 Offshore and Coastal Oil and Gas Extraction firms and 150 Offshore Seafood Processors).

Estimated Number of Respondents for Short Technical Questionnaire: 800.

Frequency of Response: one-time submission.

Estimated Burden: 19,300 hours.

Estimated Cost (non-labor costs): $3,950.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: December 9, 2002.
Geoffrey H. Grubbs,
Director, Office of Science and Technology.

[FR Doc. 02-31362 Filed 12-11-02; 8:45 am]

BILLING CODE 6560-50-P